DEPARTMENT OF HEALTH AND HUMAN SERVICES

Centers for Disease Control and Prevention

[60 Day-07-0274]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Joan Karr, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

CDC Model Performance Evaluation Program (MPEP) (0920-0274)—Revision—National Center for Preparedness, Detection, and Control of Infectious Diseases (proposed) (NCPDCID), Centers for Disease Control and Prevention (CDC).

Background and Brief Description

CDC is requesting OMB approval of a revision to its data collection, the CDC Model Performance Evaluation Program (MPEP). CDC originally implemented MPEP in 1986 to evaluate the performance of laboratories conducting testing to detect human immunodeficiency virus type 1 (HIV-1) antibody (Ab). CDC is requesting a 3-year approval for this data collection.

In this program, respondents receive 2 shipments of specimens per year. Respondents test the specimens in their laboratory/testing site and report their results either using a report booklet or on-line. CDC provides the respondent with a report containing the analysis of the laboratory test results reported to CDC. Participation in this program is voluntary and provides the respondents an opportunity to (1) assure accurate tests are being provided by the laboratory/testing site through external quality assessment; (2) improve testing quality through self-evaluation in a nonregulatory environment; (3) test well characterized samples from a source outside the test kit manufacturer; (4) discover potential testing problems so that procedures can be adjusted to eliminate them; (5) compare of testing results with others at a national and international level; and (6) consult with CDC staff to discuss testing issues.

In this request, CDC proposes to make the following revisions to the currently approved data collection:

• Addition of a Name and Address change form to report changes for the MPEP manager and coordinator at the respondent laboratory;

• Inclusion of additional test kit manufacturers approved by the FDA since previous OMB approval; and

• Elimination of reporting HIV-1 RNA Viral Load and CD4+ T-cell determinations.

All respondents are MPEP affiliated laboratories.

There is no cost to respondents other than their time.

Estimate of Annualized Burden Hours
Respondents (type of form) | Number of respondents | Frequency of response | Average time per response | Annual burden (in hours)
New Enrollees | 100 | 1 | 3/60 | 5
Laboratory Change Form | 20 | 1 | 3/60 | 1
Laboratory Test Result Form | 754 | 2 | 10/60 | 251
Total |  |  |  | 257

Dated: February 20, 2007.
Joan F. Karr,
Acting Reports Clearance Officer, Centers for Disease Control and Prevention.

[FR Doc. E7-3167 Filed 2-23-07; 8:45 am]

BILLING CODE 4163-18-P